DEPARTMENT OF DEFENSE

Department of the Army; Corps of Engineers

Inland Waterways Users Board Meeting Notice

AGENCY: Department of the Army, U.S. Army Corps of Engineers, DoD.

ACTION: Notice; new meeting location.

SUMMARY: The hotel listed for the Inland Waterways Users Board meeting scheduled on February 25, 2015 that was published in the Federal Register on Wednesday, January 21, 2015 (80 FR 2921) has changed. The Board meeting will now be held at the Hampton Inn and Suites Birmingham-Downtown-Tutwiler, 2012 Park Place, Birmingham, AL 35203.

FOR FURTHER INFORMATION CONTACT: Mr. Mark R. Pointon, the Designated Federal Officer (DFO) for the committee, in writing at the Institute for Water Resources, U.S. Army Corps of Engineers, ATTN: CEIWR-GM, 7701 Telegraph Road, Casey Building, Alexandria, VA 22315-3868; by telephone at 703-428-6438; and by email at Mark.Pointon@usace.army.mil. Alternatively, contact Mr. Kenneth E. Lichtman, the Alternate Designated Federal Officer (ADFO), in writing at the Institute for Water Resources, U.S. Army Corps of Engineers, ATTN: CEIWR-GW, 7701 Telegraph Road, Casey Building, Alexandria, VA 22315-3868; by telephone at 703-428-8083; and by email at Kenneth.E.Lichtman@usace.army.mil.

SUPPLEMENTARY INFORMATION: None.

Brenda S. Bowen,
Army Federal Register Liaison Officer.

[FR Doc. 2015-01910 Filed 1-30-15; 8:45 am]

BILLING CODE 3720-58-P